DEPARTMENT OF ENERGY

Federal Energy Regulatory Commission

[Docket No. OR13-15-000]

ExxonMobil Canada Energy, Flint Hills Resources Canada, LP, Imperial Oil, NOVA Chemical (Canada) Ltd., PBF Holding Company LLC, Toledo Refining Company, LLC, Pennzoil-Quaker State Canada, Inc., Phillips 66 Canada ULC, St. Paul Park Refining Co. LLC, Suncor Energy Marketing, Inc., United Refining Company v. Enbridge Energy, Limited Partnership; Notice of Complaint

Take notice that on March 5, 2013, pursuant to sections 1(6), 3(1), 9, 13(1), and 15(1) of the Interstate Commerce Act (ICA), 49 U.S.C. App. 1(6), 3(1), 9, 13, and 15(1), Rule 206 of the Federal Energy Regulatory Commission's (Commission) Rules of Practice and Procedure, 18 CFR 385.206 and section 343.2 of the Commission's Procedural Rules Applicable to Oil Pipeline Proceedings, 18 CFR 343.2, ExxonMobil Canada Energy, Flint Hills Resources Canada, LP, Imperial Oil, NOVA Chemical (Canada) Ltd., PBF Holding Company LLC, Toledo Refining Company, LLC, Pennzoil-Quaker State Canada, Inc., Phillips 66 Canada ULC, St. Paul Park Refining Co. LLC, Suncor Energy Marketing, Inc., and United Refining Company (Complainants) filed a formal complaint against Enbridge Energy, Limited Partnership (Respondent) alleging that, Respondent's Nomination Verification Procedure, section 6(c)(3) of its FERC Tariff No. 41.3.0 violates sections 1(6) and 15(1) of the ICA by imposing unjust and unreasonable, unjustly discriminatory and unduly preferential, terms and conditions for the use of Respondent's pipeline.

The Complainants certify that copies of the complaint were served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 25, 2013.

Dated: March 7, 2013.
Kimberly D. Bose,
Secretary.

[FR Doc. 2013-05949 Filed 3-14-13; 8:45 am]

BILLING CODE 6717-01-P